DEPARTMENT OF THE INTERIOR

Bureau of Land Management

[MTM 91063]

Cancellation of Proposed Withdrawal; Montana

AGENCY: Bureau of Land Management, Interior.

ACTION: Notice.

SUMMARY: The United States Forest Service canceled its application to withdraw 2,173 acres of land from location and entry under the United States mining laws during completion of reclamation activities.

DATES: Effective June 24, 2005.

FOR FURTHER INFORMATION CONTACT: Sandra Ward, Bureau of Land Management, Montana State Office, P.O. Box 36800, Billings, Montana 59107-6800, 406-896-5052.

SUPPLEMENTARY INFORMATION: Notice of the filing by the United States Forest Service of a withdrawal application with respect to the following described lands was published in the Federal Register on September 24, 2001:

Principal Meridian, Montana

Beaverhead-Deerlodge National Forest

Basin Creek Mine (approximately 1,456 Acres)

T. 8 N., R. 5 W.,

Sec. 19, lots 7, 10, 12, and 15;

Sec. 30, lots 7 and 17.

T. 8 N., R. 6 W.,

Sec. 24, lot 11;

Sec. 25, lots 1 to 7, inclusive;

Sec. 26, lots 4, 5, and 7, SE¼SW¼, and SW¼SE¼;

Sec. 35, lots 1, 4, 5, and 6;

Sec. 36, lots 3 and 4.

Beal Mountain Mine (716.59 Acres)

T. 2 N., R. 10 W.,

Sec. 5, N½NE¼ and W½, excluding Patent Nos. 532788, 4955, 562258, and 53541;

Sec. 6, E½, E½NW¼, and NE¼SW¼, excluding Patent Nos. 433087, 535541, 562258, and 881285.

T. 3 N., R. 10 W.,

Sec. 31, SE¼NE¼, SE¼SW¼, and SE¼; Sec. 32, W¼NE¼, W½, and SE¼, excluding Patent No. 532788.

The areas described aggregate approximately 2,173 acres in Silver Bow, Jefferson, Powell, and Lewis and Clark Counties, Montana.

Publication of the notice of the withdrawal application segregated the lands for a two-year period, which expired on September 24, 2003, pursuant to 43 CFR 2091.5-1(b)(1). Publication did not segregate the lands from surface entry and mineral leasing.

The proposed withdrawal is no longer necessary, because the Forest Service has completed all reclamation activities in this area. The withdrawal application is, therefore, cancelled.

Authority: 43 CFR 2310.2-1(c).

Dated: March 16, 2005.
Howard A. Lemm,
Deputy State Director, Division of Resources.

[FR Doc. 05-12587 Filed 6-23-05; 8:45 am]

BILLING CODE 3410-11-P